ENVIRONMENTAL PROTECTION AGENCY

[FRL-8454-9]

Proposed CERCLA Administrative Cost Recovery Settlement; THORCO, Inc.

AGENCY: Environmental Protection Agency (EPA).

ACTION: Notice; request for public comment.

SUMMARY: In accordance with section 122(i) of the Comprehensive Environmental Response, Compensation, and Liability Act, as amended (CERCLA), 42 U.S.C. 9622(i), notice is hereby given of a proposed administrative settlement for recovery of past response costs concerning the THORCO Transformer Time-Critical Removal Site in Coeur d'Alene, Idaho with the following settling party: THORCO, Incorporated (THORCO). The settlement requires the settling party to pay $18,000.00 to the Hazardous Substance Superfund. The settlement includes a covenant not to sue the settling party pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the U.S. EPA Region 10 offices, located at 1200 Sixth Avenue, Seattle, Washington 98101.

DATES: Comments must be submitted on or before September 14, 2007.

ADDRESSES: The proposed settlement is available for public inspection at the U.S. EPA Region 10 offices, located at 1200 Sixth Avenue, Seattle, Washington 98101. A copy of the proposed settlement may be obtained from Carol Kennedy, Regional Hearing Clerk, U.S. EPA Region 10, 1200 Sixth Avenue, Mail Stop ORC-158, Seattle, Washington 98101; (206) 553-0242. Comments should reference the THORCO Transformer Time-Critical Removal Site in Coeur d'Alene, Idaho, EPA Docket No. CERCLA-10-2007-0159, and should be addressed to Robert E. Hartman, Assistant Regional Counsel, U.S. EPA Region 10, Mail Stop ORC-158, 1200 Sixth Avenue, Seattle, Washington 98101.

FOR FURTHER INFORMATION CONTACT: Robert E. Hartman, Assistant Regional Counsel, U.S. EPA Region 10, Mail Stop ORC-158, 1200 Sixth Avenue, Seattle, Washington 98101; (206) 553-0029.

SUPPLEMENTARY INFORMATION: The THORCO Transformer Time-Critical Removal Site is located at 4965 Industrial Avenue, Coeur d'Alene, Idaho (Site). THORCO operated as an electrical construction company. THORCO obtained six transformers during the course of work from various construction sites. Transformer oil was released to the environment on THORCO's property. The release was initially reported on March 21, 2003.

On March 26, 2003, EPA mobilized to conduct a Removal Site Evaluation at the Site. Based on the Removal Site Evaluation and sampling analysis, EPA concluded that a release of PCBs occurred at the Site. The presence of PCBs presented a threat to human health and the environment. In May 2003, EPA and THORCO entered into an Administrative Order on Consent (AOC) for Removal Action that required THORCO to perform a cleanup of the Site. The removal was completed in June of 2003. The AOC did not address EPA's past response costs predating the AOC.

This settlement requires THORCO to pay $18,000.00 to the Hazardous Substance Superfund for recovery of past response costs incurred by EPA concerning the THORCO Transformer Time-Critical Removal Site, which total approximately $38,767.00. THORCO provided requested information, promptly granted access to investigating agencies both state and federal, worked cooperatively with EPA to execute the AOC, and timely completed the removal action in accordance with EPA's guidance and standards.

Dated: August 4, 2007.
Elin D. Miller,
Regional Administrator. Region 10.

[FR Doc. E7-16027 Filed 8-14-07; 8:45 am]

BILLING CODE 6560-50-P